DEPARTMENT OF LABOR

Employment and Training Administration

[TA-W-39,129 and TA-W-39, 129A]

International Specialty Alloys, Inc. Edinburg; and International Specialty Alloys, Inc. New Castle: Notice of Termination of Investigation

Pursuant to section 221 of the Trade Act of 1974, an investigation was initiated on April 30, 2001 in response to a petition filed on the same date by company officials on behalf of workers at International Specialty Alloys, Inc., Edinburg and New Castle, Pennsylvania.

The petitioners have requested that the petition be withdrawn. Consequently, further investigation in this case would serve no purpose, and the investigation has been terminated.

Signed in Washington, DC, this 15th day of October, 2001.
Linda G. Poole,
Certifying Officer, Division of Trade Adjustment Assistance.

[FR Doc. 01-27239 Filed 10-29-01; 8:45 am]

BILLING CODE 4510-30-M